DEPARTMENT OF AGRICULTURE

Grain Inspection, Packers and Stockyards Administration

Advisory Committee Meeting

AGENCY: Grain Inspection, Packers and Stockyards Administration, USDA.

ACTION: Notice of advisory committee meeting.

SUMMARY: Pursuant to the Federal Advisory Committee Act (5 U.S.C. App. II), this constitutes notice of the upcoming meeting of the Grain Inspection Advisory Committee (“the Committee”).

DATES: May 4, 2004, 7:30 a.m. to 5 p.m.; and May 5, 2004, 7:30 a.m. to 12 p.m.

ADDRESSES: The advisory committee meeting will take place at the Embassy Suites Hotel—Kansas City Country Club Plaza, 220 West 43rd Street, Kansas City, MO.

Requests to address the Committee at the meeting or written comments may be sent to:

Administrator, GIPSA, U.S. Department of Agriculture, 1400 Independence Avenue, SW., STOP 3601, Washington, DC 20250-3601. Requests and comments may also be faxed to (202) 205-9237.

FOR FURTHER INFORMATION CONTACT: Ms. Terri Henry, (202) 205-8281 (telephone); (202) 205-9237 (facsimile).

SUPPLEMENTARY INFORMATION: The purpose of the Committee is to provide advice to the Administrator of the Grain Inspection, Packers and Stockyards Administration with respect to the implementation of the U.S. Grain Standards Act (7 U.S.C. 71 et seq.).

The agenda will include financial status, general program plans, and grain end-use functionality research.

Public participation will be limited to written statements, unless permission is received from the Committee Chairman to orally address the Committee. The meeting will be open to the public.

Persons with disabilities who require alternative means of communication of program information or related accommodations should contact Terri Henry, at the telephone number listed above.

Donna Reifschneider,
Administrator.

[FR Doc. 04-4415 Filed 2-27-04; 8:45 am]

BILLING CODE 3410-EN-P